DEPARTMENT OF LABOR

Office of the Secretary

Submission for OMB Emergency Review; Comment Request

September 19, 2002.

The Department of Labor has submitted the following (see below) information collection request (ICR), utilizing emergency review procedures, to the Office of Management and Budget (OMB) for review and clearance in accordance with the Paperwork Reduction Act of 1995 (Pub. L. 104-13, 44 U.S.C. Chapter 35). OMB approval is requested by October 1, 2002. A copy of this ICR, with applicable supporting documentation, may be obtained by contacting Darrin King on 202-693-4129 or e-mail: king-darrin@dol.gov.

Comments and questions about the ICR listed below should be submitted to the Office of Information and Regulatory Affairs, Attn: OMB Desk Officer for the Department of Labor, Office of Management and Budget, Room 10235, Washington, DC 20503 (202-395-7316). Comments must be received by September 30, 2002. The Office of Management and Budget is particularly interested in comments which:

* Evaluate whether the proposed collection of information is necessary for the proper performance of the functions of the agency, including whether the information will have practical utility;

* Evaluate the accuracy of the agency's estimate for the burden of the proposed collection of information, including the validity of the methodology and assumptions used;

* Enhance the quality, utility, and clarify of the information to be collected; and

* Minimize the burden of the collection of information on those who are to respond, including through the use of appropriate automated, electronic, mechanical, or other technological collection techniques or other forms of information technology, e.g., permitting electronic submissions of responses.

Agency: Women's Bureau.

Title: The National Survey of Attitudes Regarding Comp Time and Balancing Work and Family.

OMB Number: 1225-ONEW.

Frequency: One time.

Affected Public: Individuals or household.

Number of Respondents: 1,000.

Annual Responses: 1,000.

Estimated Time for Response: 6 minutes.

Total Burden Hours: 100.

Total Burden Cost (capital/startup): $0.

Total Burden Cost (operating/maintaining): $0.

Description: Many indicators suggest that the world is a very different place now a little over a year past the tragedy of 9-11. Many Americans are focusing more on their emotional relationships with family and friends and have a desire to do a better job balancing their work and family lives.

Both President George W. Bush and Secretary of Labor Elaine L. Chao support the modernization of the 1938 Fair Labor Standards Act (FLSA). By updating the FLSA, private sector workers would have the opportunity to choose one and one-half hours of compensatory time (comp time) for every hour of overtime pay to help them balance their work and family responsibilities.

This short telephone survey will collect information from a random sample of 1,000 adults in the American workforce to understand their opinions regarding the need for, and their success in balancing work and family responsibilities, and their potential desire to have the option of comp time in lieu of overtime pay. The collected information will be used by the Department of Labor and Congress to help make decisions regarding changes in legislation that would offer greater flexibility to employers and employees.

Ira L. Mills,
Departmental Clearance Officer.

[FR Doc. 02-24500 Filed 9-26-02; 8:45 am]

BILLING CODE 4510-23-M